DEPARTMENT OF TRANSPORTATION

Federal Motor Carrier Safety Administration

[Docket No. FMCSA-2010-0187]

Qualification of Drivers; Exemption Applications; Vision

AGENCY: Federal Motor Carrier Safety Administration (FMCSA), DOT.

ACTION: Notice of applications for exemptions; request for comments.

SUMMARY: FMCSA announces receipt of applications from 21 individuals for exemption from the vision requirement in the Federal Motor Carrier Safety Regulations. If granted, the exemptions would enable these individuals to qualify as drivers of commercial motor vehicles (CMVs) in interstate commerce without meeting the Federal vision standard.

DATES: Comments must be received on or before September 8, 2010.

ADDRESSES: You may submit comments bearing the Federal Docket Management System (FDMS) Docket No. FMCSA-2010-0187 using any of the following methods:

• Federal eRulemaking Portal: Go to http://www.regulations.gov. Follow the on-line instructions for submitting comments.

• Mail: Docket Management Facility; U.S. Department of Transportation, 1200 New Jersey Avenue, SE., West Building Ground Floor, Room W12-140, Washington, DC 20590-0001.

• Hand Delivery: West Building Ground Floor, Room W12-140, 1200 New Jersey Avenue, SE., Washington, DC, between 9 a.m. and 5 p.m., Monday through Friday, except Federal Holidays.

• Fax: 1-202-493-2251.

Instructions: Each submission must include the Agency name and the docket numbers for this Notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue, SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review DOT's Privacy Act Statement for the Federal Docket Management System published in the Federal Register on January 17, 2008 (73 FR 3316), or you may visit http://edocket.access.gpo.gov/2008/pdf/E8-785.pdf.

FOR FURTHER INFORMATION CONTACT: Dr. Mary D. Gunnels, Director, Medical Programs, (202) 366-4001, fmcsamedical@dot.gov, FMCSA, Department of Transportation, 1200 New Jersey Avenue, SE., Room W64-224, Washington, DC 20590-0001. Office hours are from 8:30 a.m. to 5 p.m., Monday through Friday, except Federal holidays.

SUPPLEMENTARY INFORMATION:

Background

Under 49 U.S.C. 31136(e) and 31315, FMCSA may grant an exemption from the Federal Motor Carrier Safety Regulations for a 2-year period if it finds “such exemption would likely achieve a level of safety that is equivalent to, or greater than, the level that would be achieved absent such exemption.” FMCSA can renew exemptions at the end of each 2-year period. The 21 individuals listed in this Notice have each requested such an exemption from the vision requirement in 49 CFR 391.41(b)(10), which applies to drivers of CMVs in interstate commerce. Accordingly, the Agency will evaluate the qualifications of each applicant to determine whether granting an exemption will achieve the required level of safety mandated by statute.

Qualifications of Applicants

Randall J. Benson

Mr. Benson, age 40, has had amblyopia in his left eye since childhood. The best corrected visual acuity in his right eye is 20/15 and in his left eye, 20/50. Following an examination in 2010, his optometrist noted, “This patient does not present any greater risk in driving tasks than other drivers and, given his record, he should have sufficient vision to perform the driving tasks required for a commercial vehicle.” Mr. Benson reported that he has driven straight trucks for 4 years, accumulating 60,000 miles. He holds a Class D operator's license from Minnesota. His driving record for the last 3 years shows no crashes and no convictions for moving violations in a CMV.

Larry D. Brown

Mr. Brown, 53, has had complete loss of vision in his left eye since 1985. The best corrected visual acuity in his right eye is 20/20. Following an examination in 2010, his optometrist noted, “In my professional opinion Mr. Larry Brown has sufficient vision to perform the driving task of a commercial vehicle based on his vision and prior work experience.” Mr. Brown reported that he has driven straight trucks for 19 years, accumulating 47,500 miles. He holds a Class B Commercial Driver's License (CDL) from Maryland. His driving record for the last 3 years shows no crashes and no convictions for moving violations in a CMV.

Julian W. Collins

Mr. Collins, 49, has had macular scarring in his right eye due to a traumatic injury sustained in 1996. The best corrected visual acuity in his right eye is 20/400 and in his left eye, 20/15. Following an examination in 2010, his ophthalmologist noted, “I certify that Mr. Collins's eye exam today is stable and that in my medical opinion he has sufficient vision to perform the driving tasks required to operate a commercial vehicle.” Mr. Collins reported that he has driven straight trucks for 8 years, accumulating 40,000 miles and tractor trailer combinations for 23 years, accumulating 414,000 miles. He holds a Class A CDL from Georgia. His driving record for the last 3 years shows no crashes and no convictions for moving violations in a CMV.

James G. Etheridge

Mr. Etheridge, 45, has had complete loss of vision in his right eye since 1971 due to trauma. The best corrected visual acuity in his left eye is 20/20. Following an examination in 2010, his optometrist noted, “Patient's vision is sufficient to drive a commercial vehicle.” Mr. Etheridge reported that he has driven straight trucks for 12 years, accumulating 240,000 miles. He holds a Class B CDL from Texas. His driving record for the last 3 years shows no crashes and no convictions for moving violations in a CMV.

Jerry A. Evans

Mr. Evans, 63, has had a prosthetic right eye due to trauma since 1980. The best corrected visual acuity in his left eye is 20/25. Following an examination in 2010, his ophthalmologist noted, “It is my medical opinion that Mr. Evans has the ability to perform driving tasks necessary to operate a commercial vehicle.” Mr. Evans reported that he has driven straight trucks for 30 years, accumulating 507,000 miles. He holds a Class C operator's license from Georgia. His driving record for the last 3 years shows no crashes and no convictions for moving violations in a CMV.

Guy R. Flowers, Jr.

Mr. Flowers, 57, has had complete loss of vision in his left eye since 2005 due to trauma. The best corrected visual acuity in his right eye is 20/20. Following an examination in 2010, his optometrist noted, “In my opinion, providing he utilizes adequate rear-view mirror and side-view mirrors on both sides of his vehicle, he should have sufficient vision to perform the driving tasks required to operate a commercial vehicle.” Mr. Flowers reported that he has driven tractor-trailer combinations for 27 years, accumulating 2.1 million miles. He holds a Class A CDL from Alaska. His driving record for the last 3 years shows no crashes and no convictions for moving violations in a CMV.

Jeremy L. Fricke

Mr. Fricke, 27, has had complete loss of vision in his right eye since 2000 due to trauma. The best corrected visual acuity in his left eye is 20/15. Following an examination in 2010, his optometrist noted, “His vision in the left eye is excellent uncorrected and, in my opinion, is sufficient to perform the driving tasks required to operate a commercial vehicle.” Mr. Fricke reported that he has driven straight trucks for 11 years, accumulating 27,500 miles and tractor-trailer combinations for 7 years, accumulating 54,600 miles. He holds a Class D operator's license from North Dakota. His driving record for the last 3 years shows no crashes and no convictions for moving violations in a CMV.

Richard W. Gleiforst

Mr. Gleiforst, 48, has had a prosthetic left eye due to trauma since 1993. The best corrected visual acuity in his right eye is 20/15. Following an examination in 2010, his optometrist noted, “In my medical opinion Richard Gleiforst has sufficient vision to operate a commercial vehicle as he has been for the last ten years.” Mr. Gleiforst reported that he has driven straight trucks for 4 years, accumulating 17,600 miles and tractor-trailer combinations for 11 years, accumulating 1.1 million miles. He holds a Class A CDL from Colorado. His driving record for the last 3 years shows no crashes and no convictions for moving violations in a CMV.

Edward P. Hynes, II

Mr. Hynes, 52, has had amblyopia in his right eye since birth. The best corrected visual acuity in his right eye is 20/400 and in his left eye, 20/20. Following an examination in 2010, his optometrist noted, “Mr. Hynes can recognize the colors of traffic control signals and devices showing red, green and amber; and in my medical opinion he has sufficient vision to perform the driving tasks required to operate a commercial vehicle.” Mr. Hynes reported that he has driven straight trucks for 25 years, accumulating 2 million miles. He holds an operator's license from Virginia. His driving record for the last 3 years shows no crashes and no convictions for moving violations in a CMV.

Keith R. Jordan

Mr. Jordan, 40, has had retinal scarring in his right eye since 1990. The best corrected visual acuity in his right eye is 20/400 and in his left eye, 20/20. Following an examination in 2010, his optometrist noted, “Since Mr. Jordan has had this condition for a long time, and it is stable, it is my opinion that his vision is sufficient to do the tasks needed to operate a commercial vehicle.” Mr. Jordan reported that he has driven straight trucks for 22 years, accumulating 22,000 miles and tractor trailer combinations for 15 years, accumulating 840,000 miles. He holds a Class A CDL from Ohio. His driving record for the last 3 years shows no crashes and no convictions for moving violations in a CMV.

Theodore D. Kirby

Mr. Kirby, 30, has had amblyopia in his left eye since childhood. The best corrected visual acuity in his right eye is 20/20 and in his left eye, 20/400. Following an examination in 2010, his ophthalmologist noted, “In my medical opinion, Mr. Kirby has sufficient vision to perform the driving tasks required to operate a commercial vehicle.” Mr. Kirby reported that he has driven straight trucks for 3 years, accumulating 45,000 miles. He holds a Class B CDL from Maryland. His driving record for the last 3 years shows no crashes and no convictions for moving violations in a CMV.

Joseph A. Leigh, Jr.

Mr. Leigh, 48, has had amblyopia in his right eye since childhood. The best corrected visual acuity in his right eye is 20/200 and in his left eye, 20/20. Following an examination in 2009, his optometrist noted, “I do believe that Mr. Leigh has sufficient vision to perform the driving tasks required to operate a commercial vehicle.” Mr. Leigh reported that he has driven straight trucks for 20 years, accumulating 1.5 million miles. He holds a Class A CDL from North Carolina. His driving record for the last 3 years shows no crashes and no convictions for moving violations in a CMV.

John L. Lethcoe

Mr. Lethcoe, 57, has had amblyopia in his left eye since childhood. The best corrected visual acuity in his right eye is 20/20 and in his left eye, hand-motion vision only. Following an examination in 2010, his ophthalmologist noted, “In my opinion, his vision is sufficient to continue to operate a commercial vehicle.” Mr. Lethcoe reported that he has driven straight trucks for 5.5 years, accumulating 198,000 miles. He holds a Class A CDL from North Carolina. His driving record for the last 3 years shows no crashes and no convictions for moving violations in a CMV.

Ronald J. McTague

Mr. McTague, 53, has had amblyopia in his left eye since birth. The best corrected visual acuity in his right eye is 20/20 and in his left eye, 20/400. Following an examination in 2010, his optometrist noted, “My opinion is that Mr. McTague should have no restrictions on him in regards to operating a commercial vehicle.” Mr. McTague reported that he has driven straight trucks for 12 years, accumulating 900,000 miles and tractor-trailer combinations for 17 years, accumulating 2.5 million miles. He holds a Class A CDL from Ohio. His driving record for the last 3 years shows one crash and no convictions for moving violations in a CMV.

Benito Saldana

Mr. Saldana, 52, has retinal detachment in his left eye due to a traumatic injury sustained in 1981. The best corrected visual acuity in his right eye is 20/20 and in his left eye, 20/200. Following an examination in 2010, his ophthalmologist noted, “It is my medical opinion that this gentleman has proven that he can drive a commercial vehicle and he can continue doing his job.” Mr. Saldana reported that he has driven tractor-trailer combinations for 34 years, accumulating 4.4 million miles. He holds a Class A CDL from Texas. His driving record for the last 3 years shows no crashes and one conviction for a moving violation in a CMV. He exceeded the speed limit by 14 miles per hour (mph).

Julius Simmons, Jr.

Mr. Simmons, 40, has had loss of vision in his right eye since 1988 due to trauma. The best corrected visual acuity in his right eye is hand-motion only and in his left eye, 20/20. Following an examination in 2010, his optometrist noted, “I do believe that the issues involving the right eye do not affect his ability to safely operate a commercial vehicle.” Mr. Simmons reported that he has driven tractor-trailer combinations for 14 years, accumulating 1.6 million miles. He holds a Class A CDL from South Carolina. His driving record for the last 3 years shows two crashes, one for which he was not cited, and no convictions for moving violations in a CMV.

Kenneth J. Weaver

Mr. Weaver, 31, has had hamartoma in his right eye since birth. The best corrected visual acuity in his right eye is light perception only and in his left eye, 20/20. Following an examination in 2010, his optometrist noted, “Kenneth Weaver has sufficient vision to perform the driving tasks required to operate a commercial vehicle.” Mr. Weaver reported that he has driven tractor-trailer combinations for 3 years accumulating 75,750 miles. He holds a Class A CDL from Wyoming. His driving record for the last 3 years shows no crashes and no convictions for moving violations in a CMV.

Carl V. Wheeler

Mr. Wheeler, 54, has had a prosthetic left eye since 1980. The best corrected visual acuity in his right eye is 20/20. Following an examination in 2010, his ophthalmologist noted, “In my medical opinion, Mr. Wheeler has sufficient vision to perform the driving tasks required to operate a commercial vehicle.” Mr. Wheeler reported that he has driven straight trucks for 35 years, accumulating 437,500 miles and tractor-trailer combinations for 10 years, accumulating 42,500 miles. He holds a Class A CDL from North Carolina. His driving record for the last 3 years shows no crashes and no convictions for moving violations in a CMV.

Stephen B. Whitt

Mr. Whitt, 44, has had pseudoangioma in his right eye since 1994. The best corrected visual acuity in his right eye is 20/80 and in his left eye, 20/20. Following an examination in 2009, his optometrist noted, “It is my medical opinion that Stephen Whitt has sufficient vision to perform the task of driving a commercial vehicle.” Mr. Whitt reported that he has driven straight trucks for 15 years, accumulating 750,000 miles and tractor-trailer combinations for 20 years, accumulating 3 million miles. He holds a Class A CDL from North Carolina. His driving record for the last 3 years shows no crashes and no convictions for moving violations in a CMV.

Darrell F. Woosley

Mr. Woosley, 66, has had loss of vision since 2006 due to a central retinal vein occlusion. The best corrected visual acuity in his right eye is 20/200 and in his left eye, 20/25. Following an examination in 2010, his ophthalmologist noted, “It is my opinion that Mr. Darrell Woosley's vision is sufficient to allow him to drive a commercial vehicle based on his testing in the clinic.” Mr. Woosley reported that he has driven tractor-trailer combinations for 44 years, accumulating 3.1 million miles. He holds a Class A CDL from Illinois. His driving record for the last 3 years shows no crashes and two convictions for moving violations in a CMV. On the first occasion, he was cited for failure to obey a traffic sign and on the second occasion, he exceeded the speed limit by 9 mph.

Jason M. Zaragoza

Mr. Zaragoza, 37, has had macular scarring in his right eye since 2003. The best corrected visual acuity in his right eye is 20/100 and in his left eye, 20/20. Following an examination in 2010, his ophthalmologist noted, “I certify that in my medical opinion, Jason Zaragoza has sufficient vision to perform the driving tasks required to operate a commercial vehicle.” Mr. Zaragoza reported that he has driven straight trucks for 8 years, accumulating 208,000 miles. He holds a Class C operator's license from California. His driving record for the last 3 years shows no crashes and no convictions for moving violations in a CMV.

Request for Comments

In accordance with 49 U.S.C. 31136(e) and 31315, FMCSA requests public comment from all interested persons on the exemption petitions described in this Notice. The Agency will consider all comments received before the close of business September 8, 2010. Comments will be available for examination in the docket at the location listed under the ADDRESSES section of this notice. The Agency will file comments received after the comment closing date in the public docket, and will consider them to the extent practicable.

In addition to late comments, FMCSA will also continue to file, in the public docket, relevant information that becomes available after the comment closing date. Interested persons should monitor the public docket for new material.

Issued on: July 29, 2010.
Larry W. Minor,
Associate Administrator for Policy and Program Development.

[FR Doc. 2010-19594 Filed 8-6-10; 8:45 am]

BILLING CODE 4910-EX-P